DEPARTMENT OF COMMERCE

National Oceanic and Atmospheric Administration

[I.D. 110304A]

Marine Mammals; File No. 782-1708

AGENCY: National Marine Fisheries Service (NMFS), National Oceanic and Atmospheric Administration (NOAA), Commerce.

ACTION: Issuance of permit amendment.

SUMMARY: Notice is hereby given that The National Marine Mammal Laboratory (NMML), National Marine Fisheries Service, NOAA, 7600 Sand Point Way, NE, BIN C15700, Bldg. 1, Seattle, WA 98115-0070 [PI: Dr. John Bengtson] has been issued an amendment to scientific research Permit No.782-1708-00 to take Northern fur seals (Callorhinus ursinus).

ADDRESSES: The amendment and related documents are available for review upon written request or by appointment in the following office(s):

Permits, Conservation and Education Division, Office of Protected Resources, NMFS, 1315 East-West Highway, Room 13705, Silver Spring, MD 20910; phone (301)713-2289; fax (301)713-0376; and

Alaska Region, NMFS, P.O. Box 21668, Juneau, AK 99802-1668; phone (907)586-7221; fax (907)586-7249.

FOR FURTHER INFORMATION CONTACT: Ruth Johnson or Amy Sloan, (301)713-2289.

SUPPLEMENTARY INFORMATION: On September 16, 2004, notice was published in the Federal Register (69 FR 55797) that an amendment of Permit No. 782-1708-00 issued on August 23, 2003 (68 FR 53967), had been requested by the above-named organization. The requested amendment has been granted under the authority of the Marine Mammal Protection Act of 1972, as amended (16 U.S.C. 1361 et seq.), the Regulations Governing the Taking and Importing of Marine Mammals (50 CFR part 216), and the Fur Seal Act of 1966, as amended (16 U.S.C. 1151 et seq.).

The Permit authorizes the Holder to capture, restrain, shear mark, weigh, measure, sample (including tooth, tissue, blood, fecal and throat swabs, enema), ultrasound, flipper tag, and instrument fur seals; animals are recaptured to remove instruments or to reinstrument. Fur seals may be incidentally harassed during capture operations, surveys, and scat collection. Researchers may also collect, obtain, and maintain scientific specimens taken from dead animals during the native subsistence harvest (St. Paul and St. George only) and from animals found dead on rookeries during other research activities (all islands) in Alaska.

The Amendment authorizes the Holder to inject up to 60 pups with deuterium oxide (D2O) and up to 70 adults with tritiated water (3H2O). Animals may be blood sampled pre- and post-injection of isotopes, held up to 2.5 hours and released. At the end of the perinatal suckling period, the pups may be recaptured, weighed and a single 5-10 mL blood sample obtained. Females may also be biopsy sampled for fatty acid analysis. All animals requested are a subset of seals already authorized to be taken. No increase in number of animals taken is requested or authorized.

In compliance with the National Environmental Policy Act of 1969 (42 U.S.C. 4321 et seq.), a final determination has been made that the activity proposed is categorically excluded from the requirement to prepare an environmental assessment or environmental impact statement.

Dated: November 3, 2004.
Amy Sloan,
Acting Chief, Permits, Conservation and Education Division, Office of Protected Resources, National Marine Fisheries Service.

[FR Doc. 04-24956 Filed 11-8-04; 8:45 am]

BILLING CODE 3510-22-S